Proclamation 9387 of December 31, 2015

National Stalking Awareness Month, 2016

By the President of the United States of America

A Proclamation

Every person deserves to live freely and without the fear of being followed or harassed. Stalking is a violation of our fundamental freedoms, and it insults our most basic values as a Nation. Often perpetrated by those we know—and sometimes by strangers—stalking is a serious offense that occurs too frequently and goes unreported in too many cases. During National Stalking Awareness Month, we stand with victims of stalking, pledge to bring their stalkers to justice, and rededicate our efforts to ridding our schools, workplaces, and neighborhoods of this crime.

A repeated display of unwanted attention that instills fear, stalking affects people from all walks of life and makes us all less safe. Seven and a half million people are stalked in the United States each year, and 1 in 6 women will experience it at some point in their lives. People are stalked under a variety of circumstances and through a number of mediums. Text messages, emails, and phone calls are some of the most common means by which a stalker will harass someone, and offenders usually, although not always, have a prior association with the victim. Often offenders are or have been in an intimate relationship in which they have abused the victim, and in many instances stalking is a part of ongoing violence. Stalking is not only a tremendous breach of one's privacy and liberty, but its purpose is to cause victims to feel scared or anxious, terrorizing them and sometimes causing anxiety, insomnia, social dysfunction, and depression. It also has the potential to cause post-traumatic stress symptoms such as flashbacks, nightmares, and being constantly on guard. It is an affront to our basic humanity, and in some cases it can lead to more violent acts by the offenders.

In 2013, I signed the reauthorization of the Violence Against Women Act (VAWA)—a groundbreaking law that recognizes stalking as the crime it is and provides more resources to victims. The Act also created new protections for lesbian, gay, bisexual, and transgender victims, as well as for immigrants and Native American women. Earlier this year, I signed an Executive Order that allows victims to use sick leave for absences related to stalking and that protects victims' privacy in the workplace. In my 2016 budget, I proposed additional funding to assist people being stalked who must make emergency moves to safer and more stable housing. And to build on these efforts, my Administration has implemented measures requiring institutions of higher education to collect and report information on stalking and other crimes as outlined in VAWA. Under the new regulations, these institutions are required to make their disciplinary processes more transparent and to provide ongoing prevention and awareness campaigns for students and employees—because our classrooms should be safe havens where everyone can pursue their dreams and fulfill their potential free from the fear of being stalked or harassed.

As we embark on a new year, let us resolve to make it one in which every person can safely and confidently make of their lives what they will. By holding stalkers accountable and providing victims and survivors with the support and assistance they need, we can ensure ours is a Nation dedicated to promoting safety, common decency, and respect.

NOW, THEREFORE, I, BARACK OBAMA, President of the United States of America, by virtue of the authority vested in me by the Constitution and the laws of the United States, do hereby proclaim January 2016 as National Stalking Awareness Month. I call upon all Americans to recognize the signs of stalking, acknowledge stalking as a serious crime, and urge those affected not to be afraid to speak out or ask for help. Let us also resolve to support victims and survivors, and to create communities that are secure and supportive for all Americans.

IN WITNESS WHEREOF, I have hereunto set my hand this thirty-first day of December, in the year of our Lord two thousand fifteen, and of the Independence of the United States of America the two hundred and fortieth.

[FR Doc. 2016-00136

Filed 1-5-16; 11:15 am]

Billing code 3295-F6-P